DEPARTMENT OF COMMERCE

[I.D. 011502E]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Prohibited Species Donation Program.

Form Number(s): None.

OMB Approval Number: 0648-0316.

Type of Request: Regular submission.

Burden Hours: 733.

Number of Respondents: 76.

Average Hours Per Response: 40 hours for an authorized distributor application and list of participants; 12 minutes for a distributor to retain product tracking information; and 6 minutes for a processor to retain product tracking information.

Needs and Uses: A prohibited species donation (PSD) program for salmon and halibut was approved by the North Pacific Fishery Management Council and implemented by the National Marine Fisheries Service (NMFS). This program has effectively reduced regulatory discard of salmon and halibut by allowing fish that would otherwise be discarded to be donated to needy individuals through tax-exempt organizations. Vessels and processing plants participating in the donation program voluntarily retain and process salmon and halibut bycatch.

An authorized, tax-exempt, distributor, chosen by NMFS is responsible for monitoring the retention and processing of fish donated by vessels and processors. The authorized distributor also coordinates the processing, storage, transportation, and distribution of salmon and halibut. The PSD program requires a collection-of-information so that NMFS can monitor the authorized distributors' ability to effectively supervise program participants and ensure that donated fish are properly processed, stored, and distributed.

Affected Public: Not-for-profit institutions, business or other for-profit organizations.

Frequency: Every three years for permit, on occasion, and recordkeeping.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1396 Filed 1-17-02; 8:45 am]

BILLING CODE 3510-22-S